DEPARTMENT OF COMMERCE

National Oceanic and Atmospheric Administration

RIN 0648-XC992

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a Webinar of the Outreach and Education Advisory Panel.

DATES: The Webinar will be held from 10 a.m. to 1:30 p.m. Friday, December 6, 2013.

ADDRESSES: Meeting address: This meeting will be held via Webinar; visit https://www4.gotomeeting.com/register/787609511 to register.

Council address: Gulf of Mexico Fishery Management Council, 2203 North Lois Avenue, Suite 1100, Tampa, FL, 33607.

FOR FURTHER INFORMATION CONTACT: Charlene Ponce, Public Information Officer; Gulf of Mexico Fishery Management Council; telephone: (813) 348-1630; fax: (813) 348-1711; email: Charlene.Ponce@gulfcouncil.org.

SUPPLEMENTARY INFORMATION: The items of discussion in the individual meeting agenda are as follows:

• Election of Officers

• Discussion regarding enlisting logistical assistance from Advisory Panel members for Gulf-wide stakeholder meetings.

• Other business

Although non-emergency issues not contained in this agenda may come before this group for discussion, those issues may not be the subject of formal action during this meeting. Action will be restricted to those issues specifically identified in this notice and any issues arising after publication of this notice that require emergency action under section 305© of the Magnuson-Stevens Fishery Conservation and Management Act, provided the public has been notified of the Council's intent to take final action to address the emergency.

Special Accommodations

This meeting is physically accessible to people with disabilities. Requests for sign language interpretation or other auxiliary aids should be directed to Kathy Pereira at the Council office (see ADDRESSES), at least 5 working days prior to the meeting.

Note: The times and sequence specified in this agenda are subject to change.

Authority: 16 U.S.C. 1801 et seq.

Dated: November 15, 2013.
Tracey L. Thompson,
Acting Deputy Director, Office of Sustainable Fisheries, National Marine Fisheries Service.

[FR Doc. 2013-27800 Filed 11-19-13; 8:45 am]

BILLING CODE 3510-22-P